DEPARTMENT OF THE INTERIOR

Bureau of Land Management

[BLM_CO_FRN_MO4500175963]

Notice of Intent To Amend the Resource Management Plan for the Uncompahgre Field Office and Prepare an Associated Environmental Impact Statement, Colorado

AGENCY: Bureau of Land Management, Interior.

ACTION: Notice of intent.

SUMMARY: In compliance with the National Environmental Policy Act of 1969, as amended (NEPA), and the Federal Land Policy and Management Act of 1976, as amended, the Bureau of Land Management (BLM) Colorado State Director intends to prepare a Resource Management Plan (RMP) amendment with an associated Environmental Impact Statement (EIS) for the Uncompahgre Field Office and by this notice is announcing the beginning of the scoping period to solicit public comments and identify issues and is providing the planning criteria for public review.

DATES: The BLM requests the public submit comments concerning the scope of the analysis, potential alternatives, and identification of relevant information and studies by February 20, 2024. To afford the BLM the opportunity to consider issues raised by commenters in the draft RMP amendment/EIS, please ensure your comments are received prior to the close of the 45-day scoping period or 15 days after the last public meeting, whichever is later.

ADDRESSES: You may submit comments on issues and planning criteria related to the Uncompahgre Field Office RMP Amendment by any of the following methods:

• Website: https://eplanning.blm.gov/eplanning-ui/project/2026528/510.

• Mail: Uncompahgre Field Office RMP amendment/EIS, BLM Uncompahgre Field Office, 2465 South Townsend Avenue, Montrose, CO 81401.

Documents pertinent to this proposal may be examined online at: https://eplanning.blm.gov/eplanning-ui/project/2026528/510 and at the Uncompahgre Field Office.

FOR FURTHER INFORMATION CONTACT: Angela LoSasso, Project Manager; telephone: 970-210-5579; address: BLM Uncomphagre Field Office, 2465 South Townsend Avenue, Montrose, CO 81401; email: alosasso@blm.gov. Contact Ms. LoSasso to have your name added to our mailing list. Individuals in the United States who are deaf, deafblind, hard of hearing, or have a speech disability may dial 711 (TTY, TDD, or TeleBraille) to access telecommunications relay services for contacting Ms. LoSasso. Individuals outside the United States should use the relay services offered within their country to make international calls to the point-of-contact in the United States.

SUPPLEMENTARY INFORMATION: This document provides notice that the BLM Colorado State Director intends to prepare an RMP amendment with an associated EIS, announces the beginning of the scoping process, and seeks public input on issues and planning criteria. The RMP amendment would change the existing 2020 Uncompahgre Field Office RMP. The RMP amendment is being considered to allow the BLM to evaluate oil and gas leasing decisions, previously proposed Areas of Critical Environmental Concern (ACECs), and management of lands with wilderness characteristics, which would require amending the existing Uncompahgre Field Office RMP.

The planning area is located in Delta, Gunnison, Mesa, Montrose, Ouray, and San Miguel counties, Colorado, and encompasses approximately 678,400 acres of public land. The BLM will re-evaluate ACECs previously nominated during scoping for the 2019 Uncompahgre Field Office RMP revision in the RMP amendment and EIS.

Purpose and Need

The Uncompahgre Field Office approved RMP and Record of Decision was signed in April 2020. The BLM received and settled three lawsuits on the approved RMP. Under one settlement agreement, the BLM initiated two planning efforts in 2022: one statewide amendment for big game priority habitat and one range wide amendment for Gunnison Sage-Grouse habitat. Those planning efforts are currently underway. In the remaining two settlement agreements, the BLM agreed to complete an RMP amendment process with a specific scope and within a specific timeline for the Uncompahgre Field Office decision area.

The BLM needs to undertake this planning process to fulfill its responsibilities under the settlement agreements that resolved litigation challenging the 2020 Uncompahgre Field Office approved RMP. The purpose of this effort is to consider different management of oil and gas resources, lands with wilderness characteristics, and previously proposed and analyzed ACECs within the specific scope described in settlement agreements.

Consistent with settlement agreements, the scope of this land use planning process includes considering ACECs previously analyzed under Alternative B of the 2019 Uncompahgre Field Office proposed RMP/final EIS.

Preliminary Alternatives

Consistent with the settlement agreements, the BLM will consider: closing to new oil and gas leasing all areas within the Federal mineral estate that were analyzed under Alternative B/B.1 of the 2019 proposed RMP/final EIS as either closed to leasing or open to leasing subject to no surface occupancy; a minimum of 350,000 acres previously analyzed as controlled surface use under Alternative B/B.1 of the 2019 proposed RMP/final EIS as subject to no surface occupancy; and protections for lands with wilderness characteristics and ACEC designations that are the same as those analyzed under Alternative B of the 2019 proposed RMP/final EIS. The BLM may also consider alternatives specifically for oil and gas leasing decisions only (areas open and closed to leasing, open subject to no surface occupancy, and open subject to controlled surface use) that are consistent with the BLM Colorado planning efforts for range-wide Gunnison Sage-Grouse conservation and statewide big game habitat conservation. The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and stakeholders. The BLM has identified 18 preliminary issues for this planning effort's analysis. The planning criteria are available for public review and comment at the ePlanning website (see ADDRESSES).

Summary of Expected Impacts

The BLM expects impacts from alternatives to include beneficial or adverse changes to air quality; climate; oil and gas development opportunity; paleontological resources; soils including highly erodible salt and selenium soils; water including surface, ground, and municipal drinking water; wildlife including big game, threatened, and endangered species, BLM special status terrestrial and aquatic species, and migratory birds; vegetation including native plant communities, riparian vegetation, noxious and invasive species, and BLM special status, threatened, and endangered plant species; cultural resources; Native American religious concerns; socioeconomics; environmental justice; recreational opportunity; visual resources; travel and transportation; lands and reality authorizations; livestock grazing authorizations; ACECs; and lands managed for wilderness characteristics.

Schedule for the Decision-Making Process

The BLM will provide additional opportunities for public participation consistent with the NEPA and land use planning processes, including a 90-day public comment period on the draft RMP amendment/EIS and concurrent 30-day public protest period and 60-day Governor's consistency review on the proposed RMP amendment. The draft RMP amendment/EIS is anticipated to be available for public review in winter 2024/2025 and the proposed RMP amendment/final EIS is anticipated to be available for public protest of the proposed RMP Amendment in fall 2025 with an approved RMP amendment and Record of Decision in winter 2025/2026.

Public Scoping Process

This notice of intent initiates the scoping period and public review of the planning criteria, which guide the development and analysis of the draft RMP amendment/EIS. The BLM will be holding three scoping meetings in the following locations: two scoping meetings will be held virtually, and one scoping meeting will be held in Montrose, Colorado, at the BLM Public Lands Center. The specific date(s) and location(s) of these scoping meetings will be announced at least 15 days in advance through local media and newspapers, and the BLM ePlanning website (see ADDRESSES).

ACECs

The following ACECs are currently designated in the planning area: Adobe Badlands ACEC/Outstanding Natural Area (ONA)/Instant Study Area (ISA) (6,370 acres), Biological Soil Crust ACEC (390 acres), Fairview South BLM Expansion ACEC (610 acres), Needle Rock ACEC/ONA (80 acres), Paradox Rock Art ACEC (1,080 acres), and San Miguel River ACEC (21,660) acres. Information about each existing ACEC, including the size, relevant and important values, and other helpful information is available in the Uncompahgre Field Office ACEC Fact Sheet online on the project's website in ADDRESSES. The BLM will reevaluate these designated ACECs for consideration in the draft RMP amendment/EIS.

During the Uncompahgre Field Office RMP Revision planning process in 2010 the BLM solicited nominations for new ACECs. A total of 21 nominated ACECs covering a third of the field office met relevance and importance criteria, and all were analyzed in the 2019 proposed RMP/final EIS. Consistent with settlement agreements, the following 15 areas which were nominated and previously analyzed under Alternative B of the 2019 proposed RMP/final EIS will be reconsidered for ACEC designation in this planning effort:

• Coyote Wash ACEC—2,100 acres

• Dolores Slickrock ACEC—10,670 acres

• East Paradox ACEC—7,630 acres

• Fairview South CNHP Expansion ACEC—4,250 acres

• La Sal Creek ACEC—10,490 acres

• Lower Uncompahgre Plateau ACEC—31,810 acres

• Needle Rock ACEC—80 acres

• Paradox Rock Art ACEC—1,080 acres

• Roubideau-Potter-Monitor ACEC—20,430 acres

• Salt Desert Shrub Ecosystem ACEC—34,510 acres (includes the existing Adobe Badlands ACEC)

• San Miguel Gunnison Sage-Grouse ACEC—470 acres)

• San Miguel River Expansion ACEC—35,480 acres

• Sims-Cerro Gunnison Sage-Grouse ACEC—25,620 acres

• Tabeguache Pueblo and Tabeguache Caves ACEC—26,400 acres

• West Paradox ACEC—5,190 acres

Additional information on these proposed ACECs can be found in the 2013 final ACEC report on the project website (see ADDRESSES). The BLM has identified the anticipated issues related to the consideration of ACECs in the planning criteria.

Cooperating Agencies

The BLM is the lead agency. The BLM has invited Federal, State, and local agencies that are eligible to participate in the development of the environmental analysis as a cooperating agency. These include the Bureau of Reclamation; National Park Service; U.S. Environmental Protection Agency; U.S. Fish and Wildlife Service; U.S. Geological Survey; USDA Forest Service Grand Mesa, Uncompahgre, and Gunnison National Forests; Natural Resource Conservation Service; Department of Energy Office of Legacy Management; Western Area Power Administration; Colorado Department of Natural Resources; Colorado Division of Reclamation, Mining, and Safety; Colorado Energy and Carbon Management Commission; Colorado State Forest Service; Colorado Department of Agriculture; Colorado Parks and Wildlife; Colorado River Water Conservation District; Denver Water Board; Delta, Gunnison, Mesa, Montrose, Ouray, and San Miguel Counties; and the Town of Paonia.

Responsible Official

The Colorado State Director is the deciding official for this planning effort. Other responsible officials include the BLM Colorado Southwest District Manager and the BLM Colorado Uncompahgre Field Manager.

Nature of Decision To Be Made

The nature of the decision to be made will be the State Director's selection of land use planning decisions pursuant to this RMP amendment for managing BLM-administered lands under the principles of multiple use and sustained yield in a manner that best addresses the purpose and need.

Interdisciplinary Team

The BLM will use an interdisciplinary approach to develop the plan amendment in order to consider the variety of resource issues and concerns identified. Specialists with expertise in the following disciplines will be involved in this planning effort: air quality, climate, wildlife, threatened and endangered species, vegetation, hydrology, soils, energy and minerals, lands and reality, outdoor recreation management, geologic resources, archaeology, environmental justice, and socioeconomics.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan amendment will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and other stakeholders that may be interested in or affected by the proposed Uncompahgre Field Office RMP Amendment that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

Douglas J. Vilsack,
BLM Colorado State Director.

[FR Doc. 2023-28889 Filed 1-4-24; 8:45 am]

BILLING CODE 4331-16-P